DEPARTMENT OF TRANSPORTATION

Federal Aviation Administration

14 CFR Part 97

[Docket No. 31144; Amdt. No. 3756]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective August 2, 2017. The compliance date for each SIAP, associated Takeoff Minimums, and ODP is specified in the amendatory provisions.

The incorporation by reference of certain publications listed in the regulations is approved by the Director of the Federal Register as of August 2, 2017.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on June 30, 2017.
John S. Duncan,
Director, Flight Standards Service.

Adoption of the Amendment

Accordingly, pursuant to the authority delegated to me, Title 14, Code of Federal regulations, part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
17-Aug-17 | MS | Greenwood | Greenwood-Leflore | 7/0297 | 6/9/17 | VOR RWY 5, Amdt 13A.
17-Aug-17 | MS | Greenwood | Greenwood-Leflore | 7/0298 | 6/9/17 | ILS OR LOC RWY 18, Amdt 8A.
17-Aug-17 | MS | Greenwood | Greenwood-Leflore | 7/0299 | 6/9/17 | RNAV (GPS) RWY 5, Amdt 2.
17-Aug-17 | MS | Greenwood | Greenwood-Leflore | 7/0300 | 6/9/17 | RNAV (GPS) RWY 18, Amdt 2A.
17-Aug-17 | MS | Greenwood | Greenwood-Leflore | 7/0301 | 6/9/17 | RNAV (GPS) RWY 36, Amdt 1.
17-Aug-17 | GA | Lawrenceville | Gwinnett County-Briscoe Field | 7/0630 | 6/27/17 | VOR/DME RWY 7, Amdt 2A.
17-Aug-17 | ME | Portland | Portland Intl Jetport | 7/0637 | 6/14/17 | RNAV (GPS) RWY 11, Amdt 4.
17-Aug-17 | NY | Batavia | Genesee County | 7/0660 | 6/8/17 | RNAV (GPS) RWY 10, Orig.
17-Aug-17 | NC | Charlotte | Charlotte/Douglas Intl | 7/0701 | 6/21/17 | RNAV (GPS) Y RWY 36L, Amdt 1.
17-Aug-17 | NC | Charlotte | Charlotte/Douglas Intl | 7/0702 | 6/21/17 | RNAV (GPS) Y RWY 36R, Amdt 4.
17-Aug-17 | LA | Alexandria | Alexandria Intl | 7/0759 | 6/27/17 | RNAV (GPS) RWY 36, Orig-A.
17-Aug-17 | TX | Jacksonville | Cherokee County | 7/0782 | 6/8/17 | RNAV (GPS) RWY 14, Amdt 1.
17-Aug-17 | SC | Georgetown | Georgetown County | 7/0981 | 6/27/17 | RNAV (GPS) RWY 23, Amdt 2.
17-Aug-17 | KY | Louisville | Louisville Intl-Standiford Field | 7/1220 | 6/21/17 | RNAV (GPS) Y RWY 35L, Amdt 1B.
17-Aug-17 | KY | Louisville | Louisville Intl-Standiford Field | 7/1224 | 6/21/17 | RNAV (GPS) Y RWY 17L, Amdt 1C.
17-Aug-17 | KY | Louisville | Louisville Intl-Standiford Field | 7/1227 | 6/21/17 | RNAV (GPS) Y RWY 17R, Amdt 1C.
17-Aug-17 | NY | Rochester | Greater Rochester Intl | 7/1339 | 6/21/17 | RNAV (GPS) RWY 4, Amdt 2A.
17-Aug-17 | NY | Buffalo | Buffalo Niagara Intl | 7/1340 | 6/21/17 | RNAV (GPS) Y RWY 5, Amdt 2B.
17-Aug-17 | NY | Buffalo | Buffalo Niagara Intl | 7/1341 | 6/21/17 | RNAV (GPS) Y RWY 23, Amdt 2B.
17-Aug-17 | SC | Greer | Greenville Spartanburg Intl | 7/1472 | 6/27/17 | ILS OR LOC/DME RWY 4, ILS RWY 4 (SA CAT I), ILS RWY 4 (CAT II AND III), Amdt 24.
17-Aug-17 | SC | Greer | Greenville Spartanburg Intl | 7/1480 | 6/27/17 | RNAV (GPS) RWY 4, Amdt 2.
17-Aug-17 | MN | Minneapolis | Minneapolis-St Paul Intl/Wold-Chamberlain | 7/1588 | 6/21/17 | RNAV (GPS) Z RWY 30L, Amdt 5.
17-Aug-17 | MN | Minneapolis | Minneapolis-St Paul Intl/Wold-Chamberlain | 7/1589 | 6/21/17 | RNAV (GPS) Z RWY 35, Amdt 4.
17-Aug-17 | MN | Minneapolis | Minneapolis-St Paul Intl/Wold-Chamberlain | 7/1590 | 6/21/17 | RNAV (GPS) Z RWY 12L, Amdt 5.
17-Aug-17 | TX | Lufkin | Angelina County | 7/1592 | 6/21/17 | VOR RWY 15, Amdt 4.
17-Aug-17 | TX | Dallas-Fort Worth | Dallas-Fort Worth Intl | 7/1606 | 6/16/17 | RNAV (GPS) RWY 17C, Amdt 2A.
17-Aug-17 | TX | Dallas-Fort Worth | Dallas-Fort Worth Intl | 7/1607 | 6/16/17 | RNAV (GPS) RWY 17L, Amdt 5.
17-Aug-17 | TX | Dallas-Fort Worth | Dallas-Fort Worth Intl | 7/1608 | 6/16/17 | RNAV (GPS) RWY 17R, Amdt 2A.
17-Aug-17 | TX | Dallas-Fort Worth | Dallas-Fort Worth Intl | 7/1609 | 6/16/17 | RNAV (GPS) RWY 18L, Amdt 1A.
17-Aug-17 | TX | Dallas-Fort Worth | Dallas-Fort Worth Intl | 7/1612 | 6/16/17 | RNAV (GPS) RWY 18R, Amdt 1A.
17-Aug-17 | TX | Dallas-Fort Worth | Dallas-Fort Worth Intl | 7/1614 | 6/16/17 | RNAV (GPS) RWY 35C, Amdt 3A.
17-Aug-17 | TX | Dallas-Fort Worth | Dallas-Fort Worth Intl | 7/1616 | 6/16/17 | RNAV (GPS) RWY 35L, Amdt 2A.
17-Aug-17 | TX | Dallas-Fort Worth | Dallas-Fort Worth Intl | 7/1619 | 6/16/17 | RNAV (GPS) RWY 35R, Amdt 3A.
17-Aug-17 | TX | Dallas-Fort Worth | Dallas-Fort Worth Intl | 7/1621 | 6/16/17 | RNAV (GPS) RWY 36L, Amdt 3C.
17-Aug-17 | TX | Dallas-Fort Worth | Dallas-Fort Worth Intl | 7/1623 | 6/16/17 | RNAV (GPS) RWY 36R, Amdt 3B.
17-Aug-17 | TN | Nashville | Nashville Intl | 7/1987 | 6/21/17 | RNAV (GPS) Y RWY 2R, Amdt 2C.
17-Aug-17 | TN | Nashville | Nashville Intl | 7/1990 | 6/21/17 | RNAV (GPS) Y RWY 2L, Amdt 3.
17-Aug-17 | TX | Houston | George Bush Intercontinental/Houston | 7/2031 | 6/21/17 | RNAV (GPS) RWY 15R, Amdt 2A.
17-Aug-17 | TX | Houston | George Bush Intercontinental/Houston | 7/2032 | 6/21/17 | RNAV (GPS) Z RWY 8L, Amdt 5B.
17-Aug-17 | TX | Houston | George Bush Intercontinental/Houston | 7/2033 | 6/21/17 | RNAV (GPS) Z RWY 8R, Amdt 4B.
17-Aug-17 | TX | Houston | George Bush Intercontinental/Houston | 7/2034 | 6/21/17 | RNAV (GPS) Z RWY 26L, Amdt 4A.
17-Aug-17 | TX | Houston | George Bush Intercontinental/Houston | 7/2036 | 6/21/17 | RNAV (GPS) Z RWY 26R, Amdt 4A.
17-Aug-17 | TX | Houston | George Bush Intercontinental/Houston | 7/2037 | 6/21/17 | RNAV (GPS) Z RWY 27, Amdt 5.
17-Aug-17 | MS | Columbus/W Point/Starkville | Golden Triangle Rgnl | 7/2048 | 6/9/17 | RNAV (GPS) RWY 36, Amdt 1.
17-Aug-17 | MO | Kansas City | Kansas City Intl | 7/2051 | 6/19/17 | RNAV (GPS) Y RWY 1R, Amdt 2A.
17-Aug-17 | MO | Kansas City | Kansas City Intl | 7/2073 | 6/19/17 | RNAV (GPS) Y RWY 19R, Amdt 2A.
17-Aug-17 | AR | Fayetteville/Springdale/ | Northwest Arkansas Rgnl | 7/2074 | 6/19/17 | RNAV (GPS) RWY 34, Amdt 2.
17-Aug-17 | AR | Fayetteville/Springdale/ | Northwest Arkansas Rgnl | 7/2075 | 6/19/17 | RNAV (GPS) RWY 16, Amdt 4.
17-Aug-17 | CO | Grand Junction | Grand Junction Regional | 7/2260 | 6/21/17 | RNAV (GPS) Y RWY 11, Amdt 1B.
17-Aug-17 | FL | Pensacola | Pensacola Intl | 7/2307 | 6/21/17 | RNAV (GPS) RWY 17, Amdt 2C.
17-Aug-17 | NH | Portsmouth | Portsmouth Intl At Pease | 7/2345 | 6/21/17 | RNAV (GPS) RWY 16, Amdt 2.
17-Aug-17 | CA | Santa Maria | Santa Maria Pub/Capt G Allan Hancock Fld | 7/2346 | 6/21/17 | RNAV (GPS) RWY 12, Amdt 1A.
17-Aug-17 | MI | Detroit | Detroit Metropolitan Wayne County | 7/2347 | 6/19/17 | RNAV (GPS) RWY 3R, Amdt 3.
17-Aug-17 | MI | Detroit | Detroit Metropolitan Wayne County | 7/2350 | 6/19/17 | RNAV (GPS) RWY 4R, Amdt 3.
17-Aug-17 | MI | Detroit | Detroit Metropolitan Wayne County | 7/2362 | 6/19/17 | RNAV (GPS) PRM RWY 4R, Orig.
17-Aug-17 | VA | Richmond | Richmond Intl | 7/2368 | 6/21/17 | RNAV (GPS) Z RWY 34, Amdt 1B.
17-Aug-17 | AR | Rogers | Rogers Executive—Carter Field | 7/2644 | 5/26/17 | VOR RWY 2, Amdt 13D.
17-Aug-17 | AR | Rogers | Rogers Executive—Carter Field | 7/2645 | 5/26/17 | RNAV (GPS) RWY 20, Amdt 1A.
17-Aug-17 | FL | Avon Park | Avon Park Executive | 7/2706 | 6/14/17 | RNAV (GPS) RWY 10, Orig-A.
17-Aug-17 | FL | Avon Park | Avon Park Executive | 7/2707 | 6/14/17 | RNAV (GPS) RWY 5, Orig-A.
17-Aug-17 | OH | Wauseon | Fulton County | 7/2709 | 6/8/17 | Takeoff Minimums and (Obstacle) DP, Amdt 1.
17-Aug-17 | AL | Mobile | Mobile Rgnl | 7/2791 | 6/19/17 | RNAV (GPS) RWY 15, Amdt 2A.
17-Aug-17 | AL | Mobile | Mobile Rgnl | 7/2792 | 6/19/17 | RNAV (GPS) RWY 33, Amdt 2A.
17-Aug-17 | NY | Rochester | Greater Rochester Intl | 7/2794 | 6/21/17 | RNAV (GPS) RWY 22, Amdt 2A.
17-Aug-17 | NY | New York | Long Island Mac Arthur | 7/2795 | 6/21/17 | RNAV (GPS) RWY 6, Amdt 2.
17-Aug-17 | NH | Concord | Concord Muni | 7/2832 | 6/21/17 | RNAV (GPS) RWY 12, Orig-C.
17-Aug-17 | FL | Orlando | Orlando Intl | 7/2874 | 6/19/17 | RNAV (GPS) RWY 17L, Amdt 1.
17-Aug-17 | FL | Orlando | Orlando Intl | 7/2878 | 6/19/17 | RNAV (GPS) RWY 17R, Orig-C.
17-Aug-17 | FL | Orlando | Orlando Intl | 7/2879 | 6/19/17 | RNAV (GPS) RWY 18R, Amdt 1.
17-Aug-17 | FL | Orlando | Orlando Intl | 7/2881 | 6/19/17 | RNAV (GPS) RWY 35L, Amdt 1.
17-Aug-17 | FL | Orlando | Orlando Intl | 7/2885 | 6/19/17 | RNAV (GPS) RWY 35R, Amdt 1.
17-Aug-17 | NJ | Newark | Newark Liberty Intl | 7/2916 | 6/27/17 | RNAV (GPS) Z RWY 22L, Amdt 2.
17-Aug-17 | FL | Orlando | Executive | 7/2974 | 6/21/17 | RNAV (GPS) RWY 7, Amdt 2.
17-Aug-17 | TX | Houston | Ellington | 7/2975 | 6/21/17 | RNAV (GPS) RWY 22, Amdt 2B.
17-Aug-17 | FL | Miami | Miami Intl | 7/3045 | 6/21/17 | RNAV (GPS) RWY 9, Amdt 1A.
17-Aug-17 | FL | Miami | Miami Intl | 7/3046 | 6/21/17 | RNAV (GPS) Z RWY 27, Amdt 3.
17-Aug-17 | NY | Albany | Albany Intl | 7/3084 | 6/19/17 | RNAV (GPS) Y RWY 1, Amdt 1A.
17-Aug-17 | MA | Hyannis | Barnstable Muni-Boardman/Polando Field | 7/3261 | 6/27/17 | RNAV (GPS) RWY 15, Orig.
17-Aug-17 | AR | Crossett | Z M Jack Stell Field | 7/3273 | 6/8/17 | RNAV (GPS) RWY 23, Orig.
17-Aug-17 | AR | Crossett | Z M Jack Stell Field | 7/3274 | 6/8/17 | VOR/DME-A, Orig-C.
17-Aug-17 | CT | Groton (New London) | Groton-New London | 7/3373 | 6/19/17 | RNAV (GPS) RWY 5, Orig-D.
17-Aug-17 | NC | Raleigh/Durham | Raleigh-Durham Intl | 7/3375 | 6/19/17 | RNAV (GPS) Y RWY 23L, Amdt 1A.
17-Aug-17 | NC | Raleigh/Durham | Raleigh-Durham Intl | 7/3376 | 6/19/17 | RNAV (GPS) Y RWY 23R, Amdt 1A.
17-Aug-17 | NJ | Atlantic City | Atlantic City Intl | 7/3381 | 6/19/17 | RNAV (GPS) Y RWY 13, Amdt 4.
17-Aug-17 | OH | Dayton | James M Cox Dayton Intl | 7/3398 | 6/19/17 | RNAV (GPS) Z RWY 6L, Amdt 1B.
17-Aug-17 | FL | Melbourne | Melbourne Intl | 7/3480 | 6/19/17 | RNAV (GPS) RWY 9R, Amdt 1A.
17-Aug-17 | LA | New Orleans | Louis Armstrong New Orleans Intl | 7/3481 | 6/21/17 | RNAV (GPS) Y RWY 11, Amdt 2A.
17-Aug-17 | IA | Sioux City | Sioux Gateway/Col Bud Day Field | 7/3489 | 6/21/17 | RNAV (GPS) RWY 31, Orig-D.
17-Aug-17 | MD | Baltimore | Baltimore/Washington Intl Thurgood Marshall | 7/3490 | 6/21/17 | RNAV (GPS) Y RWY 33L, Amdt 4.
17-Aug-17 | IA | Cedar Rapids | The Eastern Iowa | 7/3503 | 6/21/17 | RNAV (GPS) RWY 9, Amdt 2A.
17-Aug-17 | OH | Dayton | James M Cox Dayton Intl | 7/3565 | 6/21/17 | RNAV (GPS) RWY 24L, Amdt 1B.
17-Aug-17 | OH | Dayton | James M Cox Dayton Intl | 7/3576 | 6/21/17 | RNAV (GPS) RWY 18, Amdt 1.
17-Aug-17 | LA | Shreveport | Shreveport Rgnl | 7/3581 | 6/21/17 | RNAV (GPS) RWY 14, Amdt 2.
17-Aug-17 | LA | Baton Rouge | Baton Rouge Metropolitan, Ryan Field | 7/3590 | 6/21/17 | RNAV (GPS) RWY 22R, Amdt 3.
17-Aug-17 | FL | Miami | Miami Executive | 7/3767 | 6/8/17 | ILS OR LOC RWY 9R, Amdt 11B.
17-Aug-17 | FL | Miami | Miami Executive | 7/3768 | 6/8/17 | RNAV (GPS) RWY 9R, Amdt 2B.
17-Aug-17 | FL | Miami | Miami Executive | 7/3769 | 6/8/17 | RNAV (GPS) RWY 27L, Amdt 2B.
17-Aug-17 | GA | Lawrenceville | Gwinnett County-Briscoe Field | 7/3791 | 6/8/17 | RNAV (GPS) RWY 7, Orig-B.
17-Aug-17 | MD | Ridgely | Ridgely Airpark | 7/3795 | 6/9/17 | RNAV (GPS) RWY 30, Orig-A.
17-Aug-17 | ME | Augusta | Augusta State | 7/3797 | 6/8/17 | VOR RWY 35, Amdt 6.
17-Aug-17 | ME | Augusta | Augusta State | 7/3798 | 6/8/17 | RNAV (GPS) RWY 17, Orig.
17-Aug-17 | ME | Augusta | Augusta State | 7/3799 | 6/8/17 | ILS OR LOC RWY 17, Amdt 3.
17-Aug-17 | MI | Muskegon | Muskegon County | 7/3819 | 6/8/17 | ILS OR LOC RWY 32, Amdt 19.
17-Aug-17 | MI | Muskegon | Muskegon County | 7/3820 | 6/8/17 | LOC BC RWY 14, Amdt 9A.
17-Aug-17 | AZ | Bullhead City | Laughlin/Bullhead Intl | 7/3821 | 6/14/17 | RNAV (GPS) RWY 16, Amdt 2A.
17-Aug-17 | MS | Columbia | Columbia-Marion County | 7/3834 | 6/8/17 | RNAV (GPS) RWY 5, Orig.
17-Aug-17 | MS | Columbia | Columbia-Marion County | 7/3835 | 6/8/17 | RNAV (GPS) RWY 23, Amdt 1.
17-Aug-17 | AK | Elim | Elim | 7/4069 | 6/9/17 | RNAV (GPS) RWY 1, Orig.
17-Aug-17 | AK | Elim | Elim | 7/4077 | 6/9/17 | RNAV (GPS) RWY 19, Orig -A.
17-Aug-17 | AK | Clarks Point | Clarks Point | 7/4095 | 6/9/17 | RNAV (GPS) RWY 36, Orig-A.
17-Aug-17 | AK | Clarks Point | Clarks Point | 7/4096 | 6/9/17 | RNAV (GPS) RWY 18, Orig-A.
17-Aug-17 | AR | Arkadelphia | Dexter B Florence Memorial Field | 7/4207 | 6/20/17 | RNAV (GPS) RWY 22, Orig-A.
17-Aug-17 | AR | Malvern | Malvern Muni | 7/4209 | 6/20/17 | RNAV (GPS) RWY 22, Orig-A.
17-Aug-17 | AR | Manila | Manila Muni | 7/4212 | 6/20/17 | RNAV (GPS) RWY 18, Amdt 1A.
17-Aug-17 | IA | Maquoketa | Maquoketa Muni | 7/4215 | 6/20/17 | RNAV (GPS) RWY 15, Amdt 1A.
17-Aug-17 | IL | Lacon | Marshall County | 7/4217 | 6/20/17 | RNAV (GPS) RWY 13, Orig-A.
17-Aug-17 | IL | Cairo | Cairo Rgnl | 7/4219 | 6/20/17 | RNAV (GPS) RWY 14, Orig-A.
17-Aug-17 | IL | Carmi | Carmi Muni | 7/4221 | 6/20/17 | RNAV (GPS) RWY 36, Orig-B.
17-Aug-17 | IL | Savanna | Tri-Township | 7/4222 | 6/20/17 | RNAV (GPS) RWY 13, Orig-B.
17-Aug-17 | IN | Bedford | Virgil I Grissom Muni | 7/4224 | 6/20/17 | RNAV (GPS) RWY 31, Amdt 1B.
17-Aug-17 | MI | Lakeview | Lakeview-Griffith Field | 7/4226 | 6/20/17 | RNAV (GPS) RWY 10, Orig.
17-Aug-17 | MI | Grand Ledge | Abrams Muni | 7/4229 | 6/20/17 | RNAV (GPS) RWY 9, Orig-B.
17-Aug-17 | MI | East Tawas | Iosco County | 7/4232 | 6/20/17 | RNAV (GPS) RWY 8, Orig-A.
17-Aug-17 | MI | Bad Axe | Huron County Memorial | 7/4233 | 6/20/17 | RNAV (GPS) RWY 22, Orig-A.
17-Aug-17 | MI | Romeo | Romeo State | 7/4236 | 6/20/17 | RNAV (GPS) RWY 18, Amdt 1A.
17-Aug-17 | MI | Romeo | Romeo State | 7/4239 | 6/20/17 | RNAV (GPS) RWY 36, Amdt 1B.
17-Aug-17 | MI | Three Rivers | Three Rivers Muni Dr Haines | 7/4244 | 6/20/17 | RNAV (GPS) RWY 27, Orig-B.
17-Aug-17 | MI | Houghton Lake | Roscommon County-Blodgett Memorial | 7/4245 | 6/20/17 | RNAV (GPS) RWY 9, Amdt 2C.
17-Aug-17 | MI | Houghton Lake | Roscommon County-Blodgett Memorial | 7/4248 | 6/20/17 | RNAV (GPS) RWY 27, Amdt 1B.
17-Aug-17 | MI | Ludington | Mason County | 7/4249 | 6/20/17 | RNAV (GPS) RWY 8, Orig-B.
17-Aug-17 | MI | South Haven | South Haven Area Rgnl | 7/4251 | 6/20/17 | RNAV (GPS) RWY 5, Amdt 1C.
17-Aug-17 | MI | South Haven | South Haven Area Rgnl | 7/4252 | 6/20/17 | RNAV (GPS) RWY 23, Amdt 1C.
17-Aug-17 | MI | Menominee | Menominee-Marinette Twin County | 7/4253 | 6/20/17 | RNAV (GPS) RWY 32, Amdt 1A.
17-Aug-17 | MI | Mason | Mason Jewett Field | 7/4254 | 6/20/17 | RNAV (GPS) RWY 10, Orig-B.
17-Aug-17 | MI | Mason | Mason Jewett Field | 7/4255 | 6/20/17 | RNAV (GPS) RWY 28, Orig-B.
17-Aug-17 | MI | Traverse City | Cherry Capital | 7/4256 | 6/20/17 | RNAV (GPS) RWY 18, Orig-A.
17-Aug-17 | MI | Detroit | Willow Run | 7/4257 | 6/20/17 | RNAV (GPS) RWY 5L, Amdt 1A.
17-Aug-17 | MN | Waseca | Waseca Muni | 7/4258 | 6/20/17 | RNAV (GPS) RWY 33, Orig-A.
17-Aug-17 | MN | Minneapolis | Flying Cloud | 7/4259 | 6/20/17 | RNAV (GPS) RWY 36, Amdt 2A.
17-Aug-17 | MO | Mountain Grove | Mountain Grove Memorial | 7/4260 | 6/20/17 | RNAV (GPS) RWY 8, Orig-A.
17-Aug-17 | MO | Mountain Grove | Mountain Grove Memorial | 7/4261 | 6/20/17 | RNAV (GPS) RWY 26, Orig-B.
17-Aug-17 | MO | Springfield | Downtown | 7/4262 | 6/20/17 | RNAV (GPS)-B, Orig.
17-Aug-17 | MO | Excelsior Springs | Excelsior Springs Memorial | 7/4263 | 6/20/17 | RNAV (GPS)-B, Orig.
17-Aug-17 | MO | Ava | Ava Bill Martin Memorial | 7/4264 | 6/20/17 | RNAV (GPS) RWY 31, Orig-A.
17-Aug-17 | MO | Osage Beach | Grand Glaize-Osage Beach | 7/4267 | 6/20/17 | RNAV (GPS) RWY 14, Amdt 1A.
17-Aug-17 | MO | Osage Beach | Grand Glaize-Osage Beach | 7/4269 | 6/20/17 | RNAV (GPS) RWY 32, Amdt 1A.
17-Aug-17 | MO | Mountain View | Mountain View | 7/4271 | 6/20/17 | RNAV (GPS) RWY 10, Orig-B.
17-Aug-17 | MO | Mountain View | Mountain View | 7/4273 | 6/20/17 | RNAV (GPS) RWY 28, Orig-B.
17-Aug-17 | MO | Stockton | Stockton Muni | 7/4275 | 6/20/17 | RNAV (GPS) RWY 1, Orig-A.
17-Aug-17 | MO | Stockton | Stockton Muni | 7/4277 | 6/20/17 | RNAV (GPS) RWY 19, Orig-B.
17-Aug-17 | OH | Millersburg | Holmes County | 7/4279 | 6/20/17 | RNAV (GPS) RWY 9, Orig.
17-Aug-17 | OH | Woodsfield | Monroe County | 7/4281 | 6/20/17 | RNAV (GPS) RWY 25, Orig-A.
17-Aug-17 | OH | Middlefield | Geauga County | 7/4282 | 6/20/17 | RNAV (GPS) RWY 29, Orig-A.
17-Aug-17 | OH | Middlefield | Geauga County | 7/4283 | 6/20/17 | RNAV (GPS) RWY 11, Orig-A.
17-Aug-17 | OH | Cambridge | Cambridge Muni | 7/4285 | 6/20/17 | RNAV (GPS) RWY 22, Orig-B.
17-Aug-17 | OH | Cambridge | Cambridge Muni | 7/4287 | 6/20/17 | RNAV (GPS) RWY 4, Orig-B.
17-Aug-17 | OH | Waverly | Pike County | 7/4289 | 6/20/17 | RNAV (GPS) RWY 7, Amdt 1.
17-Aug-17 | OK | Prague | Prague Muni | 7/4291 | 6/20/17 | RNAV (GPS) RWY 17, Orig-A.
17-Aug-17 | TX | Devine | Devine Muni | 7/4294 | 6/20/17 | RNAV (GPS) RWY 35, Orig-A.
17-Aug-17 | TX | Houston | David Wayne Hooks Memorial | 7/4297 | 6/20/17 | LOC RWY 17R, Amdt 3C.
17-Aug-17 | TX | Rocksprings | Edwards County | 7/4301 | 6/20/17 | VOR RWY 14, Amdt 5A.
17-Aug-17 | TX | Graford | Possum Kingdom | 7/4302 | 6/20/17 | RNAV (GPS) RWY 2, Orig-B.
17-Aug-17 | TX | Graford | Possum Kingdom | 7/4304 | 6/20/17 | RNAV (GPS) RWY 20, Orig-B.
17-Aug-17 | TX | Comanche | Comanche County-City | 7/4306 | 6/20/17 | RNAV (GPS) RWY 35, Orig.
17-Aug-17 | WI | Burlington | Burlington Muni | 7/4313 | 6/20/17 | RNAV (GPS) RWY 29, Amdt 1A.
17-Aug-17 | WI | Burlington | Burlington Muni | 7/4315 | 6/20/17 | RNAV (GPS) RWY 11, Orig-A.
17-Aug-17 | WI | Grantsburg | Grantsburg Muni | 7/4316 | 6/20/17 | RNAV (GPS) RWY 30, Orig-A.
17-Aug-17 | KY | Mayfield | Mayfield Graves County | 7/4429 | 6/8/17 | RNAV (GPS) Z RWY 1, Orig.
17-Aug-17 | KY | Mayfield | Mayfield Graves County | 7/4430 | 6/8/17 | RNAV (GPS) RWY 19, Amdt 1.
17-Aug-17 | KY | Mayfield | Mayfield Graves County | 7/4431 | 6/8/17 | RNAV (GPS) Y RWY 1, Amdt 1.
17-Aug-17 | PR | San Juan | Luis Munoz Marin Intl | 7/4470 | 6/9/17 | ILS OR LOC RWY 10, Amdt 6.
17-Aug-17 | PR | San Juan | Luis Munoz Marin Intl | 7/4472 | 6/9/17 | VOR OR TACAN RWY 10, Amdt 2.
17-Aug-17 | PR | San Juan | Luis Munoz Marin Intl | 7/4474 | 6/9/17 | RNAV (GPS) RWY 10, Amdt 2.
17-Aug-17 | OH | Cleveland | Burke Lakefront | 7/4788 | 6/9/17 | RNAV (GPS) RWY 24R, Orig.
17-Aug-17 | TX | Commerce | Commerce Muni | 7/4945 | 6/9/17 | RNAV (GPS) RWY 18, Orig-A.
17-Aug-17 | TX | Commerce | Commerce Muni | 7/4946 | 6/9/17 | VOR/DME-A, Amdt 3A.
17-Aug-17 | TX | Commerce | Commerce Muni | 7/4947 | 6/9/17 | RNAV (GPS) RWY 36, Orig-A.
17-Aug-17 | AK | Kasigluk | Kasigluk | 7/5505 | 6/8/17 | RNAV (GPS) RWY 17, Orig-A.
17-Aug-17 | AK | Kasigluk | Kasigluk | 7/5506 | 6/8/17 | RNAV (GPS) RWY 35, Orig-A.
17-Aug-17 | TN | Copperhill | Martin Campbell Field | 7/5773 | 6/8/17 | RNAV (GPS) RWY 2, Orig.
17-Aug-17 | TN | Copperhill | Martin Campbell Field | 7/5775 | 6/8/17 | RNAV (GPS) RWY 20, Orig.
17-Aug-17 | NJ | Belmar/Farmingdale | Monmouth Executive | 7/5872 | 6/8/17 | RNAV (GPS) RWY 14, Orig-B.
17-Aug-17 | NJ | Belmar/Farmingdale | Monmouth Executive | 7/5873 | 6/8/17 | RNAV (GPS) RWY 32, Orig-A.
17-Aug-17 | OH | Cleveland | Burke Lakefront | 7/5992 | 6/9/17 | ILS OR LOC RWY 24R, Amdt 1.
17-Aug-17 | TX | Athens | Athens Muni | 7/6474 | 6/27/17 | NDB RWY 35, Amdt 4D.
17-Aug-17 | TX | Athens | Athens Muni | 7/6484 | 6/27/17 | RNAV (GPS) RWY 35, Orig.
17-Aug-17 | MS | Batesville | Panola County | 7/6489 | 6/9/17 | LOC/DME RWY 19, Amdt 1.
17-Aug-17 | MN | Rochester | Rochester Intl | 7/6514 | 6/8/17 | VOR/DME RWY 20, Amdt 14.
17-Aug-17 | AR | Decatur | Crystal Lake | 7/6516 | 6/8/17 | VOR/DME RWY 13, Amdt 9.
17-Aug-17 | AR | Decatur | Crystal Lake | 7/6517 | 6/8/17 | RNAV (GPS) RWY 13, Orig.
17-Aug-17 | AZ | Springerville | Springerville Muni | 7/6540 | 6/27/17 | RNAV (GPS) RWY 21, Amdt 1B.
17-Aug-17 | FL | West Palm Beach | North Palm Beach County General Aviation | 7/6693 | 6/14/17 | VOR RWY 8R, Amdt 1C.
17-Aug-17 | NC | Greensboro | Piedmont Triad Intl | 7/6715 | 6/8/17 | ILS OR LOC RWY 23L, ILS RWY 23L (CAT II), Amdt 9B.
17-Aug-17 | NY | Glens Falls | Floyd Bennett Memorial | 7/6716 | 6/8/17 | RNAV (GPS) RWY 19, Amdt 1A.
17-Aug-17 | CA | Tracy | Tracy Muni | 7/6735 | 6/27/17 | RNAV (GPS) RWY 30, Amdt 1.
17-Aug-17 | CA | Tracy | Tracy Muni | 7/6736 | 6/27/17 | RNAV (GPS) RWY 12, Amdt 2.
17-Aug-17 | OH | Columbus | Port Columbus Intl | 7/6986 | 6/27/17 | Takeoff Minimums and (Obstacle) DP, Amdt 7.
17-Aug-17 | CA | Big Bear City | Big Bear City | 7/7099 | 6/14/17 | RNAV (GPS) RWY 26, Amdt 2.
17-Aug-17 | CA | Los Angeles | Los Angeles Intl | 7/7306 | 6/14/17 | ILS OR LOC RWY 24L, Amdt 27.
17-Aug-17 | NE | Gothenburg | Quinn Field | 7/7342 | 6/27/17 | Takeoff Minimums and (Obstacle) DP, Amdt 1.
17-Aug-17 | MS | Indianola | Indianola Muni | 7/7809 | 6/8/17 | RNAV (GPS) RWY 18, Amdt 2.
17-Aug-17 | FL | St Petersburg-Clearwater | St Pete-Clearwater Intl | 7/7861 | 6/14/17 | RNAV (GPS) RWY 18, Orig.
17-Aug-17 | NJ | Lumberton | Flying W | 7/8140 | 6/19/17 | RNAV (GPS) RWY 19, Amdt 1B.
17-Aug-17 | NJ | Lumberton | Flying W | 7/8146 | 6/19/17 | RNAV (GPS) RWY 1, Amdt 1B.
17-Aug-17 | AL | Birmingham | Birmingham-Shuttlesworth Intl | 7/8329 | 6/14/17 | RNAV (GPS) Y RWY 6, Amdt 1A.
17-Aug-17 | MA | Nantucket | Nantucket Memorial | 7/8388 | 6/16/17 | RNAV (GPS) RWY 24, Amdt 1.
17-Aug-17 | AL | Mobile | Mobile Downtown | 7/8433 | 6/14/17 | RNAV (GPS) RWY 32, Amdt 2.
17-Aug-17 | DC | Washington | Washington Dulles Intl | 7/8435 | 6/14/17 | RNAV (GPS) RWY 12, Amdt 1B.
17-Aug-17 | FL | Jacksonville | Jacksonville Intl | 7/8438 | 6/14/17 | RNAV (GPS) Z RWY 8, Amdt 2A.
17-Aug-17 | FL | Jacksonville | Jacksonville Intl | 7/8443 | 6/14/17 | RNAV (GPS) Z RWY 26, Amdt 2B.
17-Aug-17 | SC | Georgetown | Georgetown County | 7/8659 | 6/8/17 | NDB RWY 5, Amdt 6.
17-Aug-17 | SC | Georgetown | Georgetown County | 7/8660 | 6/8/17 | RNAV (GPS) RWY 5, Orig.
17-Aug-17 | TN | Crossville | Crossville Memorial-Whitson Field | 7/9031 | 6/27/17 | ILS Y OR LOC Y RWY 26, Orig-B.
17-Aug-17 | TN | Crossville | Crossville Memorial-Whitson Field | 7/9032 | 6/27/17 | ILS Z OR LOC Z RWY 26, Amdt 14B.
17-Aug-17 | TN | Crossville | Crossville Memorial-Whitson Field | 7/9033 | 6/27/17 | VOR/DME-A, Amdt 9A.
17-Aug-17 | NE | Superior | Superior Muni | 7/9182 | 6/8/17 | RNAV (GPS) RWY 32, Orig-A.
17-Aug-17 | WA | Pullman/Moscow | Pullman/Moscow Rgnl | 7/9607 | 6/27/17 | RNAV (GPS) Y RWY 6, Amdt 2D.

[FR Doc. 2017-16100 Filed 8-1-17; 8:45 am]

BILLING CODE 4910-13-P